DEPARTMENT OF TRANSPORTATION

Maritime Administration

[Docket No. MARAD-2020-0068]

Request for Comments on the Approval of a Previously Approved Information Collection: War Risk Insurance, Applications and Related Information

AGENCY: Maritime Administration, DOT.

ACTION: Notice and request for comments.

SUMMARY: The Maritime Administration (MARAD) invites public comments on our intention to request the Office of Management and Budget (OMB) approval to renew an information collection. The information to be collected will be used to determine the eligibility of the applicant and the vessel(s) for participation in the War Risk Insurance program. We are required to publish this notice in the Federal Register by the Paperwork Reduction Act of 1995.

DATES: Comments must be submitted on or before June 29, 2020.

ADDRESSES: You may submit comments [identified by Docket No. MARAD-2020-0068] through one of the following methods:

• Federal eRulemaking Portal: http://www.regulations.gov. Search using the above DOT docket number and follow the online instructions for submitting comments.

• Fax: 1-202-493-2251.

• Mail or Hand Delivery: Docket Management Facility, U.S. Department of Transportation, 1200 New Jersey Avenue SE, West Building, Room W12-140, Washington, DC 20590, between 9 a.m. and 5 p.m., Monday through Friday, except on Federal holidays.

Comments are invited on: (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

FOR FURTHER INFORMATION CONTACT: Michael Yarrington, 202-366-1915, Office of Marine Insurance, Maritime Administration, U.S. Department of Transportation, 1200 New Jersey Avenue SE, Washington, DC, 20590.

SUPPLEMENTARY INFORMATION: Title: War Risk Insurance Applications and Related Information.

OMB Control Number: 2133-0011.

Type of Request: Renewal of a previously approved collection.

Abstract: As authorized by Section 1202, Title XII, Merchant Marine Act, 1936, as amended, (46 U.S.C. §§ 53901-53912) (Act), the Secretary of the U.S. Department of Transportation (Secretary) may provide war risk insurance for national defense or the adequate for the needs of the waterborne commerce of the United States, if such insurance cannot be obtained on reasonable terms and conditions from companies authorized to do an insurance business in a state of the United States.

Respondents: Vessel owners or charterers interested in participating in MARAD's war risk insurance program.

Affected Public: Business or other for profit.

Estimated Number of Respondents: 20.

Estimated Number of Responses: 20.

Estimated Hours per Response: 12.8.

Annual Estimated Total Annual Burden Hours: 256.

Frequency of Response: Annually.

(Authority: The Paperwork Reduction Act of 1995; 44 U.S.C. Chapter 35, as amended; and 49 CFR 1.93.)

* * * * *

Dated: April 23, 2020.
By Order of the Maritime Administrator.
T. Mitchell Hudson, Jr.,
Secretary, Maritime Administration.

[FR Doc. 2020-09005 Filed 4-27-20; 8:45 am]

BILLING CODE 4910-81-P